DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the name of one person that has been placed on OFAC's Specially Designated Nationals and Blocked Persons List (SDN List) based on OFAC's determination that one or more applicable legal criteria were satisfied. All property and interests in property subject to U.S. jurisdiction of this person are blocked, and U.S. persons are generally prohibited from engaging in transactions with them.

DATES: This action was issued on June 24, 2025. See Supplementary Information section for relevant dates.

FOR FURTHER INFORMATION CONTACT: OFAC: Associate Director for Global Targeting, 202-622-2420; Assistant Director for Sanctions Compliance, 202-622-2490; or https://ofac.treasury.gov/contact-ofac.

SUPPLEMENTARY INFORMATION:

Electronic Availability

The SDN List and additional information concerning OFAC sanctions programs are available on OFAC's website: https://ofac.treasury.gov.

Notice of OFAC Action

On June 24, 2025, OFAC determined that that the property and interests in property subject to U.S. jurisdiction of the following person are blocked under the relevant sanctions authorities listed below.

Individuals

1. MOSQUERA SERRANO, Giovanni Vicente (a.k.a. “El Viejo”; a.k.a. “Giovanny”; a.k.a. “Giovanny San Vicente”), Venezuela; Colombia; DOB 22 Feb 1988; POB San Vicente, Aragua, Venezuela; nationality Venezuela; Gender Male; Secondary sanctions risk: section 1(b) of Executive Order 13224, as amended by Executive Order 13886; Cedula No. 20243384 (Venezuela) (individual) [SDGT] [TCO] (Linked To: TREN DE ARAGUA).

Designated pursuant to section 1(a)(ii)(C) of Executive Order 13581 of July 24, 2011, “Blocking Property of Transnational Criminal Organizations,” 76 FR 44757 (July 27, 2011), as amended by Executive Order 13863 of March 15, 2019, “Taking Additional Steps to Address the National Emergency With Respect to Significant Transnational Criminal Organizations,” 84 FR 10255 (March 19, 2019) (E.O. 13581, as amended) for being owned or controlled by, or having acted or purported to act for or on behalf of, directly or indirectly, TREN DE ARAGUA, a person whose property and interests in property are blocked pursuant to E.O. 13581, as amended.

Designated pursuant to section 1(a)(iii)(A) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended) for being owned or controlled by, or having acted or purported to act for or on behalf of, directly or indirectly, TREN DE ARAGUA, a person whose property and interests in property are blocked pursuant to E.O. 13224, as amended.

Lisa M. Palluconi,
Acting Director, Office of Foreign Assets Control.

[FR Doc. 2025-11894 Filed 6-26-25; 8:45 am]

BILLING CODE 4810-AL-P